ENVIRONMENTAL PROTECTION AGENCY

[FRL-6964-81]

Agency Information Collection Activities: Proposed Collection: Comment Request; Standards of Performance for New Stationary Sources: Hospital/Medical/Infectious Waste Incinerators

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): New Source Performance Standard for New Stationary Sources: Hospital/Medical/Infectious Waste Incinerators, EPA ICR Number 1730.2, and OMB Control Number 2060-0363, expiration date September 30, 2001. Before submitting the ICR to OMB for review and approval, EPA is soliciting comments on specific aspects of the proposed information collection as described below.

DATES: Comments must be submitted on or before June 11, 2001.

ADDRESSES: United States Environmental Protection Agency, Office of Enforcement and Compliance Assurance, Office of Compliance, Compliance Assistance and Sector Programs Division, Mail Code 2224A; 1200 Pennsylvania Avenue, NW., Washington, DC 20460. A hard copy of the ICR may be obtained without charge, by calling the information contact or from the Internet at: http://www.epa.gov/icr.

FOR FURTHER INFORMATION CONTACT: Jonathan Binder, (202) 564-2516 or (202) 564-7083 or binder.jonathan@epa.gov and refer to EPA ICR Number 1730.2, and OMB Control Number 2060-0363.

SUPPLEMENTARY INFORMATION: Affected entities: Entities potentially affected by this action are those which own or operate hospital/medical/infectious waste incinerators for which construction is commenced after February 27, 1995 or for which modification commenced after June 20, 1996.

Title: Standards of Performance for New Stationary Sources: Hospital/Medical/Infectious Waste Incinerators OMB Control No. 2060-0263; EPA ICR No. 1730.02. expiring 9/30/01.

Abstract: This ICR outlines the records and reports that are necessary to ensure that the Standards of Performance for New Stationary Sources: Hospital/Medical/Infectious Waste Incinerators are being achieved on a continuous basis. Records and reports are required by 40 CFR part 60, subpart A (General Provisions) and Subpart Ec.

HMIWI burning hospital waste and/or medical infectious waste are subject to the specific reporting and recording keeping requirements Notification reports are required related to the construction, reconstruction, or modification of a HMIWI. Also required are one-time-only reports related to initial performance test data and continuous measurements of site specific operating parameters. Annual compliance reports are required related to a variety of site-specific operating parameters, including exceedances of applicable limits. Semiannual compliance reports are required related to emission rate or operating parameter data that were not obtained when exceedances of applicable limits occurred. Affected entities must retain for five years the reports and records that are required under this NSPS and the General Provisions.

Co-fired combustors and incinerators burning only pathological, low-level radioactive, and/or chemotherapeutic waste are required to submit notification reports on an exemption claim, and an estimate of the relative amounts of waste and fuels to be combusted. These co-fired combustors and incinerators are also required to maintain records on a calendar quarter basis of the weight of hospital waste combusted, the weight of medical/infectious waste combusted, and the weight of all other fuels combusted.

All reports required under the NSPS and the General Provisions are submitted to the respondent's State or local agency, whichever has been delegated enforcement authority by the EPA. The information is used by EPA solely to determine that all sources subject to the NSPS are in compliance with the NSPS and that the control system installed to comply with the standards is being properly operated and maintained. Based on reported information, EPA can decide which facilities should be inspected and what records or processes should be inspected at the facilities. The records that sources maintain would indicate to EPA whether facility personnel are operating and maintaining control equipment properly.

An agency may not conduct or sponsor, and a person is not required to respond to, a collection of information unless it displays a currently valid OMB control number. The OMB control numbers for EPA's regulations are listed in 40 CFR part 9 and 48 CFR Chapter 15.

Comments: The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection is estimated at 1000 hours per response. The 14 estimated respondents are expected to be subject to 2 responses per year. The cost burden to respondents or recordkeepers resulting from the collection of information is estimated at $33.00 total capital and start-up cost component annualized over its expected useful life, and a $241.00 total operation and maintenance component. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: April 4, 2001.
David N. Lyons,
Acting Director, Compliance Assistance Sector Programs Division, Office of Compliance.

[FR Doc. 01-9054 Filed 4-11-01; 8:45 am]

BILLING CODE 6560-50-M